DEPARTMENT OF THE INTERIOR

Fish and Wildlife Service

50 CFR Parts 13, 17, and 23

[Docket No. FWS-R9-IA-2010-0083; 96300-1671-0000-R4]

RIN 1018-AW82

Revision of Regulations Implementing the Convention on International Trade in Endangered Species of Wild Fauna and Flora (CITES); Updates Following the Fifteenth Meeting of the Conference of the Parties to CITES; Correction

AGENCY: Fish and Wildlife Service, Interior.

ACTION: Proposed rule; correction.

SUMMARY: On March 8, 2012, we, the Fish and Wildlife Service (FWS or Service), published a proposed rule to revise the regulations that implement the Convention on International Trade in Endangered Species of Wild Fauna and Flora (CITES) by incorporating certain provisions adopted at the fourteenth and fifteenth meetings of the Conference of the Parties (CoP14 and CoP15) to CITES and clarifying and updating certain other provisions. Inadvertently, we made some errors in the DATES and ADDRESSES sections concerning the information collection aspects of the proposal. With this technical correction, we correct those errors.

FOR FURTHER INFORMATION CONTACT: Robert R. Gabel, Chief, Division of Management Authority; U.S. Fish and Wildlife Service; 4401 N. Fairfax Drive, Suite 212; Arlington, VA 22203; telephone, 703-358-2093.

SUPPLEMENTARY INFORMATION: On March 8, 2012 (77 FR 14200), we published a proposed rule to revise the regulations that implement CITES. Inadvertently, we made some errors in the DATES and ADDRESSES sections concerning the information collection aspects of the proposal. With this technical correction, we correct those errors.

Under DATES, we printed an incorrect date for the deadline for comments on the information collection aspects of the proposed rule. The correct date is April 9, 2012. Comments on the information collection aspects of this proposed rule will be considered if received by April 9, 2012.

Under ADDRESSES, we printed an incorrect address to which to provide us a copy of your comments on the information collection aspects of the proposed rule. Please provide those comments to the Service Information Collection Clearance Officer, U.S. Fish and Wildlife Service, MS 2042-PDM, 4401 N. Fairfax Drive, Arlington, VA 22203.

Dated: March 8, 2012.
Sara Prigan,
Federal Register Liaison.

[FR Doc. 2012-6104 Filed 3-13-12; 8:45 am]

BILLING CODE 4310-55-P